DEPARTMENT OF THE INTERIOR

Bureau of Ocean Energy Management, Regulation and Enforcement

Notice of Availability of the Proposed Notice of Sale (NOS) for Outer Continental Shelf (OCS) Oil and Gas Lease Sale 218 in the Western Planning Area (WPA) in the Gulf of Mexico (GOM)

AGENCY: Bureau of Ocean Energy Management, Regulation and Enforcement (BOEMRE), Department of the Interior.

ACTION: Notice of Availability of the Proposed NOS for Proposed Sale 218.

SUMMARY: BOEMRE announces the availability of the proposed NOS for proposed Sale 218 in the WPA. This Notice is published pursuant to 30 CFR 256.29(c) as a matter of information to the public. With regard to oil and gas leasing on the OCS, the Secretary of the Interior, pursuant to section 19 of the OCS Lands Act, provides the affected states the opportunity to review the proposed Notice. The proposed Notice sets forth the proposed terms and conditions of the sale, including minimum bids, royalty rates, and rentals.

DATES: Comments on the size, timing, or location of proposed Sale 218 are due from the affected states within 60 days following their receipt of the proposed Notice. The final NOS will be published in the Federal Register at least 30 days prior to the date of bid opening. Bid opening is currently scheduled for December 14, 2011.

SUPPLEMENTARY INFORMATION: The proposed NOS for Sale 218 and a “Proposed Notice of Sale Package” containing information essential to potential bidders may be obtained from the Public Information Unit, Gulf of Mexico Region, Bureau of Ocean Energy Management, Regulation and Enforcement, 1201 Elmwood Park Boulevard, New Orleans, Louisiana 70123-2394. Telephone: (504) 736-2519. For Sale 218, BOEMRE will be issuing leases with a revised lease form which is scheduled to be approved October 2011. The table identifying all the changes between the previous lease form and the new lease form will be issued in October 2011 and can be found at http://www.gomr.boemre.gov/homepg/lsesale/218/wgom218.html.

Dated: August 4, 2011.
Michael R. Bromwich,
Director, Bureau of Ocean Energy Management, Regulation and Enforcement.

[FR Doc. 2011-21384 Filed 8-19-11; 8:45 am]

BILLING CODE 4310-MR-P